DEPARTMENT OF TRANSPORTATION

Saint Lawrence Seaway Development Corporation

33 CFR Parts 402 and 403

Tariff of Tolls and Rules of Procedure of the Joint Tolls Review Board

CFR Correction

In Title 33 of the Code of Federal Regulations, Part 200 to End, revised as of July 1, 2004, page 691 contains duplicate text. The text from page 691 is removed and the following text from § 402.10 and part 403 is reinstated on page 691:

Item | Column 1 Place in Montreal-Lake Ontario | Column 2 Period after clearance date | Column 3 Amount ($) (5 locks)¹
|  | (d) 72 hours or more but less than 96 hours | 60,000
| (2) If the postponement is for 48 hours | (a) 48 hours or more but less than 72 hours | n/a
|  | (b) 72 hours or more but less than 80 hours | 20,000
|  | (c) 80 hours or more but less than 88 hours | 40,000
|  | (d) 88 hours or more but less than 96 hours | 60,000
| (3) If the postponement is for 72 hours or more | (a) 72 hours or more but less than 96 hours | n/a
¹ Prorated on a per-lock basis.

PART 403—RULES OF PROCEDURE OF THE JOINT TOLLS REVIEW BOARD

Sec.
403.1 Purpose of the Joint Tolls Review Board. [Rule 1]
403.2 Scope of rules. [Rule 2]
403.3 Definitions. [Rule 3]
403.4 Applications. [Rule 4]
403.5 Meetings and functions of Board. [Rule 5]
403.6 Additional information. [Rule 6]
403.7 Action on applications; notices of requirements. [Rule 7]
403.8 Proceedings; stay or adjournment. [Rule 8]
403.9 Prehearings. [Rule 9]
403.10 Hearings; witnesses; affidavits. [Rule 10]
403.11 Findings and recommendations. [Rule 11]

Authority: 68 Stat. 92-96, 33 U.S.C. 981-990; Agreement between the Governments of United States and of Canada dated March 9, 1959, 10 U.S.T. 323, unless otherwise noted.

Source:

24 FR 9307, Nov. 18, 1959; 24 FR 10445, Dec. 23, 1959, unless otherwise noted.

§ 403.1 Purpose of the Joint Tolls Review Board. [Rule 1]

The Board shall hear complaints relating to the interpretation of the St. Lawrence Seaway Tariff of Tolls or allegations of unjust discrimination arising out of the operation of the said Tariff and shall conduct such other business as agreed to by the Board (Rule 1).

[47 FR 13805, Apr. 1, 1982]

§ 403.2 Scope of rules. [Rule 2]

These rules govern practice and procedure before the Joint Tolls Review Board unless the Board directs or permits a departure therefrom in any proceeding [Rule 2].

(68 Stat. 92-97, 33 U.S.C. 981-990, as amended; Agreement between the Governments of the United States and Canada finalized on March 20, 1978)

[43 FR 30539, July 17, 1978. Redesignated at 47 FR 13805, Apr. 1, 1982]

§ 403.3 Definitions. [Rule 3]

In these rules, unless the context otherwise requires:

(a) Application includes complaint;

(b) Affidavit includes a written affirmation;

(c) Board means the Joint Tolls Review Board;

(d) Words in the singular include the plural and words in the plural include the singular [Rule 3].

[24 FR 9307, Nov. 18, 1959; 24 FR 10445, Dec. 23, 1959, as amended at 43 FR 30539, July 17, 1978. Redesignated at 47 FR 13805, Apr. 1, 1982]

§ 403.4 Applications. [Rule 4]

(a) Every proceeding before the Board shall be commenced by an application made to it, which shall be in writing and signed by, or on behalf of, the applicant.

(b) An applicant shall file six copies of his application setting forth a clear and complete statement of the facts the grounds for the complaint, and the relief or remedy to which the applicant claims to be entitled.

(c) Applicants resident in Canada shall file their complaints with the St. Lawrence Seaway Joint Tolls Reviews Board, Tower “A”, Place de Ville, 320 Queen Street, Ottawa, Ontario KIR 5A3. Applicants resident in the United States of America shall file their complaints with the St. Lawrence Seaway Joint Tolls Review Board, 800 Independence Ave., SW., Washington, D.C. 20591. Other applicants may file their

[FR Doc. 04-55524 Filed 11-3-04; 8:45 am]

BILLING CODE 1505-01-D